ENVIRONMENTAL PROTECTION AGENCY

40 CFR Part 180

[EPA-HQ-OPP-2018-0156; FRL-9574-01-OCSPP]

Butoxypolypropylene glycol, et al.; Exemption From the Requirement of a Tolerance

AGENCY: Environmental Protection Agency (EPA).

ACTION: Final rule.

SUMMARY: This regulation establishes exemptions from the requirement of a tolerance for residues of butoxypolypropylene glycol (BPG; α-butyl-ώ-hydroxy-poly-oxy(methyl-1,2-ethanediyl) (CAS Reg. No. 9003-13-8)), oxirane, 2-methyl-, polymer with oxirane, mono-2-propen-1-yl ether (CAS Reg. No. 9041-33-2; polyether 1), poly(oxy-1,2-ethanediyl), α-acetyl-ώ-(2-propen-1-yloxy)- (CAS Reg. No. 27252-87-5; polyether 2) and poly(oxy-1,2-ethanediyl), α-methyl-ώ-(2-propen-1-yloxy)- (CAS Reg. No. 27252-80-8; polyether 3) when used as an inert ingredient in/on growing crops and raw agricultural commodities pre- and post-harvest and applied to animals. Spring Trading Company, on behalf of Evonik Corporation, submitted a petition to EPA under the Federal Food, Drug, and Cosmetic Act (FFDCA), requesting establishment of exemptions from the requirement of a tolerance. This regulation eliminates the need to establish a maximum permissible level for residues of BPG and polyethers 1, 2, and 3 when used in accordance with these exemptions.

DATES: This regulation is effective March 25, 2022. Objections and requests for hearings must be received on or before May 24, 2022, and must be filed in accordance with the instructions provided in 40 CFR part 178 (see also Unit I.C. of the SUPPLEMENTARY INFORMATION).

ADDRESSES: The docket for this action, identified by docket identification (ID) number EPA-HQ-OPP-2018-0156, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Due to the public health concerns related to COVID-19, the EPA Docket Center (EPA/DC) and Reading Room is open to visitors by appointment only. For the latest status information on EPA/DC services and access, visit https://www.epa.gov/dockets.

FOR FURTHER INFORMATION CONTACT: Marietta Echeverria, Registration Division (7505P), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get electronic access to other related information?

You may access a frequently updated electronic version of 40 CFR part 180 through the Office of the Federal Register's e-CFR site at https://www.ecfr.gov/current/title-40.

C. How can I file an objection or hearing request?

Under FFDCA section 408(g), 21 U.S.C. 346a, any person may file an objection to any aspect of this regulation and may also request a hearing on those objections. You must file your objection or request a hearing on this regulation in accordance with the instructions provided in 40 CFR part 178. To ensure proper receipt by EPA, you must identify docket ID number EPA-HQ-OPP-2018-0156 in the subject line on the first page of your submission. All objections and requests for a hearing must be in writing and must be received by the Hearing Clerk on or before May 24, 2022. Addresses for mail and hand delivery of objections and hearing requests are provided in 40 CFR 178.25(b).

In addition to filing an objection or hearing request with the Hearing Clerk as described in 40 CFR part 178, please submit a copy of the filing (excluding any Confidential Business Information (CBI)) for inclusion in the public docket. Information not marked confidential pursuant to 40 CFR part 2 may be disclosed publicly by EPA without prior notice. Submit the non-CBI copy of your objection or hearing request, identified by docket ID number EPA-HQ-OPP-2018-0156, by one of the following methods:

• Federal eRulemaking Portal: https://www.regulations.gov. Follow the online instructions for submitting comments. Do not submit electronically any information you consider to be CBI or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/contacts.html.

Additional instructions on commenting or visiting the docket, along with more information about dockets generally, is available at https://www.epa.gov/dockets.

II. Petition for Exemption

In the Federal Register of May 18, 2018 (83 FR 23249) (FRL-9976-87), EPA issued a document pursuant to FFDCA section 408, 21 U.S.C. 346a, announcing the filing of a pesticide petition (PP IN-11104) by Spring Trading Company (203 Dogwood Trail, Magnolia, TX 77354), on behalf of Evonik Corporation (P.O. Box 34628, Richmond, VA 23234). The petition requested that 40 CFR 180.910 and 180.930 be amended by establishing exemptions from the requirement of a tolerance for residues of BPG and polyethers 1, 2, and 3 when used as an inert ingredient in pesticide formulations applied in/on growing crops pre- and post-harvest and applied to animals. That document referenced a summary of the petition prepared by Spring Trading Company on behalf of Evonik Corporation, the petitioner, which is available in the docket, https://www.regulations.gov. There were no relevant comments received in response to the notice of filing.

III. Inert Ingredient Definition

Inert ingredients are all ingredients that are not active ingredients as defined in 40 CFR 153.125 and include, but are not limited to, the following types of ingredients (except when they have a pesticidal efficacy of their own): Solvents such as alcohols and hydrocarbons; surfactants such as polyoxyethylene polymers and fatty acids; carriers such as clay and diatomaceous earth; thickeners such as carrageenan and modified cellulose; wetting, spreading, and dispersing agents; propellants in aerosol dispensers; microencapsulating agents; and emulsifiers. The term “inert” is not intended to imply nontoxicity; the ingredient may or may not be chemically active. Generally, EPA has exempted inert ingredients from the requirement of a tolerance based on the low toxicity of the individual inert ingredients.

IV. Aggregate Risk Assessment and Determination of Safety

Section 408(c)(2)(A)(i) of FFDCA allows EPA to establish an exemption from the requirement for a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings but does not include occupational exposure. Section 408(b)(2)(C) of FFDCA requires EPA to give special consideration to exposure of infants and children to the pesticide chemical residue in establishing a tolerance and to “ensure that there is a reasonable certainty that no harm will result to infants and children from aggregate exposure to the pesticide chemical residue . . . .”

EPA establishes exemptions from the requirement of a tolerance only in those cases where it can be clearly demonstrated that the risks from aggregate exposure to pesticide chemical residues under reasonably foreseeable circumstances will pose no appreciable risks to human health. In order to determine the risks from aggregate exposure to pesticide inert ingredients, the Agency considers the toxicity of the inert in conjunction with possible exposure to residues of the inert ingredient through food, drinking water, and through other exposures that occur as a result of pesticide use in residential settings. If EPA is able to determine that a finite tolerance is not necessary to ensure that there is a reasonable certainty that no harm will result from aggregate exposure to the inert ingredient, an exemption from the requirement of a tolerance may be established.

Consistent with FFDCA section 408(c)(2)(A), and the factors specified in FFDCA section 408(c)(2)(B), EPA has reviewed the available scientific data and other relevant information in support of this action. EPA has sufficient data to assess the hazards of and to make a determination on aggregate exposure for BPG and polyethers 1, 2 and 3 including exposure resulting from the exemption established by this action. EPA's assessment of exposures and risks associated with BPG and polyethers 1, 2 and 3 follows.

A. Toxicological Profile

EPA has evaluated the available toxicity data and considered their validity, completeness, and reliability as well as the relationship of the results of the studies to human risk. EPA has also considered available information concerning the variability of the sensitivities of major identifiable subgroups of consumers, including infants and children. Specific information on the studies received and the nature of the adverse effects caused by BPG and polyethers 1, 2 and 3 as well as the no-observed-adverse-effect-level (NOAEL) and the lowest-observed-adverse-effect-level (LOAEL) from the toxicity studies are discussed in this unit.

Toxicity information is available for BPG but not for polyethers 1, 2 or 3. Therefore, information from BPG and the related compound polyoxyethylene polyoxypropylene monobutyl ether (PPME; CAS Reg. No. 9038-95-3) and several related alcohol ethoxylates are used to assess the toxicity of the petitioned-for polymers. Based on the available read-across information, BPG and polyethers 1, 2, and 3, are considered to have low acute toxicity via the oral, dermal, and inhalation routes. They are minor eye irritants, but not dermal irritants or skin sensitizers.

In repeated-dose toxicity studies, the kidneys, liver, hematological system and lungs were the major target organs. However, the effects observed in these oral and dermal studies occurred at doses at or above the limit dose and thus, are not considered relevant for risk assessment purposes. Based on their expected volatility and results from a repeated-dose inhalation study, inhalation is the route of toxicological concern for BPG and polyethers 1, 2, and 3. There is no evidence of susceptibility in the available developmental toxicity study and no effects on reproductive organs were observed throughout the database. Concern for carcinogenicity is low based on negative results in mutagenicity and genotoxicity studies and lack of effects in the available chronic studies.

B. Toxicological Points of Departure/Levels of Concern

Once a pesticide's toxicological profile is determined, EPA identifies toxicological points of departure (POD) and levels of concern to use in evaluating the risk posed by human exposure to the pesticide. For hazards that have a threshold below which there is no appreciable risk, the toxicological POD is used as the basis for derivation of reference values for risk assessment. PODs are developed based on a careful analysis of the doses in each toxicological study to determine the dose at which no adverse effects are observed (the NOAEL) and the lowest dose at which adverse effects of concern are identified (the LOAEL). Uncertainty/safety factors are used in conjunction with the POD to calculate a safe exposure level—generally referred to as a population-adjusted dose (PAD) or a reference dose (RfD)—and a safe margin of exposure (MOE). For non-threshold risks, the Agency assumes that any amount of exposure will lead to some degree of risk. Thus, the Agency estimates risk in terms of the probability of an occurrence of the adverse effect expected in a lifetime. For more information on the general principles EPA uses in risk characterization and a complete description of the risk assessment process, see https://www.epa.gov/pesticides/factsheets/riskassess.htm.

An acute dietary endpoint was not selected because no effect attributable to a single dose was identified in the database. No chronic dietary endpoint was selected because the effects observed in the oral studies occurred at doses above the limit dose, which are not relevant for risk assessment purposes. No short- and intermediate-term incidental oral endpoints were selected because the effects observed in the oral studies occurred at doses above the limit dose, which are not relevant for risk assessment purposes. No dermal endpoints were selected. There were also no adverse systemic effects reported in the 90-day dermal toxicity study in rats, and there was no evidence of increased susceptibility in the young.

The short-term and intermediate-term inhalation endpoints were derived from the 2-week inhalation toxicity study in rats, with a NOAEL of 100 mg/m³ and a LOAEL of 500 mg/m³, based on rapid respiration in females, hematology, clinical chemistry and urinalysis findings and microscopic findings in the lung in both sexes. This represents the lowest NOAEL in the database in the most sensitive species. The standard uncertainty factors (UFs) were applied to account for interspecies (10x) and intraspecies (10x) variations. The default value of 100% was used for the dermal and inhalation absorption factors.

C. Exposure Assessment

1. Dietary exposure from food and feed uses. Although dietary exposure via food is anticipated, no acute or chronic dietary endpoints of concern were identified; therefore, a quantitative dietary exposure assessment was not conducted.

2. Dietary exposure from drinking water. Although dietary exposure via drinking water is anticipated, no acute or chronic dietary endpoints of concern were identified; therefore, a quantitative dietary exposure assessment was not conducted.

3. From non-dietary exposure. The term “residential exposure” is used in this document to refer to non-occupational, non-dietary exposure (e.g., textiles (clothing and diapers), carpets, swimming pools, and hard surface disinfection on walls, floors, tables).

BPG and polyethers 1, 2 and 3 may be used as an inert ingredient in products that are registered for specific uses that may result in residential exposure. A screening level residential exposure and risk assessment was completed for products containing BPG and polyethers 1, 2 and 3 as inert ingredients. The Agency selected representative scenarios, based on end-use product application methods and labeled application rates. The Agency conducted an assessment to represent worst-case residential exposure by assessing BPG and polyethers 1, 2 and 3 in pesticide formulations (outdoor scenarios) and BPG and polyethers 1, 2 and 3 in disinfectant-type uses (indoor scenarios). The Agency assessed the disinfectant-type products containing BPG and polyethers 1, 2 and 3 using exposure scenarios used by OPP's Antimicrobials Division to represent worst-case indoor residential handler exposure to possible non-food use applications. Further details of the residential exposure and risk analysis can be found at https://www.regulations.gov in the memorandum entitled “JITF Inert Ingredients. Residential and Occupational Exposure Assessment Algorithms and Assumptions Appendix for the Human Health Risk Assessments to Support Proposed Exemption from the Requirement of a Tolerance When Used as Inert Ingredients in Pesticide Formulations” (D364751, 5/7/09, Lloyd/LaMay) in docket ID number EPA-HQ-OPP-2008-0710.

4. Cumulative effects from substances with a common mechanism of toxicity. Section 408(b)(2)(D)(v) of FFDCA requires that, when considering whether to establish, modify, or revoke a tolerance, the Agency consider “available information” concerning the cumulative effects of a particular pesticide's residues and “other substances that have a common mechanism of toxicity.”

EPA has not found BPG or polyether 1, 2 or 3 to share a common mechanism of toxicity with any other substances, and BPG and polyether 1, 2 and 3 do not appear to produce a toxic metabolite produced by other substances. For the purposes of this tolerance action, therefore, EPA has assumed that BPG and polyether 1, 2 and 3 do not have a common mechanism of toxicity with other substances. For information regarding EPA's efforts to determine which chemicals have a common mechanism of toxicity and to evaluate the cumulative effects of such chemicals, see EPA's website at https://www.epa.gov/pesticides/cumulative.

D. Safety Factor for Infants and Children

1. In general. Section 408(b)(2)(C) of FFDCA provides that EPA shall apply an additional tenfold (10X) margin of safety for infants and children in the case of threshold effects to account for prenatal and postnatal toxicity and the completeness of the database on toxicity and exposure unless EPA determines based on reliable data that a different margin of safety will be safe for infants and children. This additional margin of safety is commonly referred to as the Food Quality Protection Act (FQPA) Safety Factor (SF). In applying this provision, EPA either retains the default value of 10X, or uses a different additional safety factor when reliable data available to EPA support the choice of a different factor.

2. Prenatal and postnatal sensitivity. Based on the evaluation of available toxicity studies with BPG and related compounds, there is low concern for pre- and postnatal susceptibility for infants and children from exposure to BPG, and polyethers 1, 2, and 3.

3. Conclusion. The FQPA safety factor has been reduced to 1X because: (1) The toxicity database is adequate to characterize potential pre- and postnatal risk for infants and children; (2) no effects on reproductive organs or reproductive parameters were observed in the available studies; (3) no developmental effects were observed in the available dermal developmental study in rats; (4) no evidence of neurotoxicity was observed in the database; and (5) the exposure assessment is unlikely to underestimate risk.

E. Aggregate Risks and Determination of Safety

EPA determines whether acute and chronic dietary pesticide exposures are safe by comparing aggregate exposure estimates to the acute PAD (aPAD) and chronic PAD (cPAD). For linear cancer risks, EPA calculates the lifetime probability of acquiring cancer given the estimated aggregate exposure. Short- and intermediate-term risks are evaluated by comparing the estimated aggregate food, water, and residential exposure to the appropriate PODs to ensure that an adequate MOE exists.

1. Acute dietary risk. An acute aggregate risk assessment takes into account acute exposure estimates from dietary consumption of food and drinking water. No adverse effect resulting from a single oral exposure was identified and no acute dietary endpoint was selected. Therefore, BPG and polyethers 1, 2 and 3 are not expected to pose an acute dietary risk.

2. Chronic dietary risk. A chronic aggregate risk assessment takes into account chronic exposure estimates from dietary consumption of food and drinking water. No adverse effect resulting from repeated oral exposure was identified and no chronic dietary endpoint was selected. Therefore, BPG and polyether 1, 2 and 3 are not expected to pose a chronic dietary risk.

3. Short-term risk. Short-term aggregate exposure takes into account short-term residential exposure plus chronic exposure to food and water (considered to be a background exposure level). BPG and polyethers 1, 2 and 3 are currently used as an inert ingredient in pesticide products that are registered for uses that could result in short-term residential exposure, and the Agency has determined that it is appropriate to aggregate chronic exposure through food and water with short-term residential exposures to BPG and polyethers 1, 2 and 3.

Using the exposure assumptions described in this unit for short-term exposures, EPA has concluded the combined short-term food, water, and residential exposures result in aggregate MOEs ranging from 22,000 to 280,000 for adults (handler only; no dietary exposure). Because EPA's level of concern for BPG and polyethers 1, 2 and 3 is an MOE of 100 or below, these MOEs are not of concern.

4. Intermediate-term risk. Intermediate-term aggregate exposure takes into account intermediate-term residential exposure plus chronic exposure to food and water (considered to be a background exposure level). BPG and polyethers 1, 2 and 3 are currently used as an inert ingredient in pesticide products that are registered for uses that could result in intermediate-term residential exposure, and the Agency has determined that it is appropriate to aggregate chronic exposure through food and water with intermediate-term residential exposures to BPG and polyethers 1, 2 and 3.

Using the exposure assumptions described in this unit for intermediate-term exposures, EPA has concluded that the combined intermediate-term food, water, and residential exposures result in aggregate MOEs ranging from 22,000 to 280,000 for adults (handler only; no dietary exposure). Because EPA's level of concern for BPG and polyethers 1, 2 and 3 is a MOE of 100 or below, these MOEs are not of concern.

5. Aggregate cancer risk for U.S. population. Based on the lack of evidence of carcinogenicity in the provided studies, BPG and polyethers 1, 2 and 3 are not expected to pose a cancer risk to humans.

6. Determination of safety. Based on these risk assessments, EPA concludes that there is a reasonable certainty that no harm will result to the general population, or to infants and children from aggregate exposure to BPG and polyethers 1, 2 and 3 residues.

V. Other Considerations

A. Analytical Enforcement Methodology

An analytical method is not required for enforcement purposes since the Agency is establishing an exemption from the requirement of a tolerance without any numerical limitation.

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint United Nation Food and Agriculture Organization/World Health Organization food standards program, and it is recognized as an international food safety standards-setting organization in trade agreements to which the United States is a party. EPA may establish a tolerance that is different from a Codex MRL; however, FFDCA section 408(b)(4) requires that EPA explain the reasons for departing from the Codex level. The Codex has not established a MRL for BPG and polyether 1, 2 and 3.

VI. Conclusions

Therefore, exemptions from the requirement of a tolerance are established under 40 CFR 180.910 and 180.930 for butoxypolypropylene glycol (BPG; α-butyl-v́-hydroxy-poly-oxy(methyl-1,2-ethanediyl) (CAS Reg. No. 9003-13-8), oxirane, 2-methyl-, polymer with oxirane, mono-2-propen-1-yl ether (CAS Reg. No. 9041-33-2; polyether 1), poly(oxy-1,2-ethanediyl), α-acetyl-v́-(2-propen-1-yloxy)- (CAS Reg. No. 27252-87-5; polyether 2) and poly(oxy-1,2-ethanediyl), α-methyl-v́-(2-propen-1-yloxy)- (CAS Reg. No. 27252-80-8; polyether 3) when used as an inert ingredient in pesticide formulations applied in/on growing crops and raw agricultural commodities pre- and post-harvest under and applied to animals.

VII. Statutory and Executive Order Reviews

This action establishes a tolerance under FFDCA section 408(d) in response to a petition submitted to the Agency. The Office of Management and Budget (OMB) has exempted these types of actions from review under Executive Order 12866, entitled “Regulatory Planning and Review” (58 FR 51735, October 4, 1993). Because this action has been exempted from review under Executive Order 12866, this action is not subject to Executive Order 13211, entitled “Actions Concerning Regulations That Significantly Affect Energy Supply, Distribution, or Use” (66 FR 28355, May 22, 2001) or Executive Order 13045, entitled “Protection of Children from Environmental Health Risks and Safety Risks” (62 FR 19885, April 23, 1997). This action does not contain any information collections subject to OMB approval under the Paperwork Reduction Act (PRA) (44 U.S.C. 3501 et seq.), nor does it require any special considerations under Executive Order 12898, entitled “Federal Actions to Address Environmental Justice in Minority Populations and Low-Income Populations” (59 FR 7629, February 16, 1994).

Since tolerances and exemptions that are established on the basis of a petition under FFDCA section 408(d), such as the tolerance in this final rule, do not require the issuance of a proposed rule, the requirements of the Regulatory Flexibility Act (RFA) (5 U.S.C. 601 et seq.), do not apply.

This action directly regulates growers, food processors, food handlers, and food retailers, not States or Tribes, nor does this action alter the relationships or distribution of power and responsibilities established by Congress in the preemption provisions of FFDCA section 408(n)(4). As such, the Agency has determined that this action will not have a substantial direct effect on States or Tribal governments, on the relationship between the National Government and the States or Tribal Governments, or on the distribution of power and responsibilities among the various levels of government or between the Federal Government and Indian Tribes. Thus, the Agency has determined that Executive Order 13132, entitled “Federalism” (64 FR 43255, August 10, 1999) and Executive Order 13175, entitled “Consultation and Coordination with Indian Tribal Governments” (65 FR 67249, November 9, 2000) do not apply to this action. In addition, this action does not impose any enforceable duty or contain any unfunded mandate as described under Title II of the Unfunded Mandates Reform Act (UMRA) (2 U.S.C. 1501 et seq.).

This action does not involve any technical standards that would require Agency consideration of voluntary consensus standards pursuant to section 12(d) of the National Technology Transfer and Advancement Act (NTTAA) (15 U.S.C. 272 note).

VIII. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: March 21, 2022.
Marietta Echeverria,
Acting Director, Registration Division, Office of Pesticide Programs.

Therefore, for the reasons stated in the preamble, EPA is amending 40 CFR chapter I as follows:

PART 180—TOLERANCES AND EXEMPTIONS FOR PESTICIDE CHEMICAL RESIDUES IN FOOD

1. The authority citation for part 180 continues to read as follows:

Authority: 21 U.S.C. 321(q), 346a and 371.

2. In § 180.910, amend Table 1 to 180.910 by adding, in alphabetical order, the inert ingredients “Butoxypolypropylene glycol (CAS Reg. No. 9003-13-8)”; “Oxirane, 2-methyl-, polymer with oxirane, mono-2-propen-1-yl ether (CAS Reg. No. 9041-33-2)”; “Poly(oxy-1,2-ethanediyl), α-acetyl-v́-(2-propen-1-yloxy)- (CAS Reg. No. 27252-87-5)”; and “Poly(oxy-1,2-ethanediyl), α-methyl-v́-(2-propen-1-yloxy)- (CAS Reg. No. 27252-80-8)” to read as follows:

§ 180.910 Inert ingredients used pre- and post-harvest; exemptions from the requirement of a tolerance.

* * * * *

Table 1 to 180.910
Inert ingredients | Limits | Uses
* * * * * * *
Butoxypolypropylene glycol (CAS Reg. No. 9003-13-8) |  |
* * * * * * *
Oxirane, 2-methyl-, polymer with oxirane, mono-2-propen-1-yl ether (CAS Reg. No. 9041-33-2)
* * * * * * *
Poly(oxy-1,2-ethanediyl), α-acetyl-v́-(2-propen-1-yloxy)- (CAS Reg. No. 27252-87-5)
* * * * * * *
Poly(oxy-1,2-ethanediyl), α-methyl-v́-(2-propen-1-yloxy)- (CAS Reg. No. 27252-80-8)
* * * * * * *

3. In § 180.930, amend Table 1 to 180.930 by adding, in alphabetical order, the inert ingredients “Butoxypolypropylene glycol (CAS Reg. No. 9003-13-8)”; “Oxirane, 2-methyl-, polymer with oxirane, mono-2-propen-1-yl ether (CAS Reg. No. 9041-33-2)”; “Poly(oxy-1,2-ethanediyl), α-acetyl-v́-(2-propen-1-yloxy)- (CAS Reg. No. 27252-87-5)”; and “Poly(oxy-1,2-ethanediyl), α-methyl-v́-(2-propen-1-yloxy)- (CAS Reg. No. 27252-80-8)” to read as follows:

§ 180.930 Inert ingredients applied to animals; exemptions from the requirement of a tolerance.

* * * * *

Table 1 to 180.930
Inert ingredients | Limits | Uses
* * * * * * *
Butoxypolypropylene glycol (CAS Reg. No. 9003-13-8)
* * * * * * *
Oxirane, 2-methyl-, polymer with oxirane, mono-2-propen-1-yl ether (CAS Reg. No. 9041-33-2)
* * * * * * *
Poly(oxy-1,2-ethanediyl), α-acetyl-v́-(2-propen-1-yloxy)- (CAS Reg. No. 27252-87-5)
Poly(oxy-1,2-ethanediyl), α-methyl-v́-(2-propen-1-yloxy)- (CAS Reg. No. 27252-80-8)
* * * * * * *

[FR Doc. 2022-06327 Filed 3-24-22; 8:45 am]

BILLING CODE 6560-50-P